DEPARTMENT OF THE INTERIOR

Fish and Wildlife Service

Notice of Scoping Meetings and Intent To Prepare an Environmental Assessment for the Proposed Designation of a Nonessential Experimental Population of Rio Grande Silvery Minnow

AGENCY: Fish and Wildlife Service, Interior.

ACTION: Notice of intent.

SUMMARY: We, the U.S. Fish and Wildlife Service (Service), are providing this notice to advise the public that a draft environmental assessment will be prepared, pursuant to the National Environmental Policy Act (NEPA) of 1969, as amended, in conjunction with a proposed rule to establish, under section 10(j) of the Endangered Species Act of 1973, as amended (Act), a Nonessential Experimental Population (NEP) of Rio Grande silvery minnow (Hybognathus amarus) (silvery minnow) in the Rio Grande River in Big Bend National Park and the Rio Grande Wild and Scenic River in Texas. We will hold three public informational sessions and scoping meetings (see DATES and ADDRESSES sections).

Through this notice and the public scoping meetings, we are seeking comments or suggestions from the public, other concerned governmental agencies, Tribes, the scientific community, industry, or any other interested parties concerning the scope of the environmental analysis, including the alternatives that should be analyzed.

DATES: Comments must be submitted directly to the Service (see ADDRESSES section) on or before September 19, 2005, or at any of the three scoping meetings to be held in August 2005.

We will hold public informational sessions followed by scoping meetings at the following dates and times:

1. September 20, 2005: Sanderson, TX. Informational session: 5:30 p.m. Scoping meeting: 7 p.m.

2. September 21, 2005: Alpine, TX. Informational session: 5:30 p.m. Scoping meeting: 7 p.m.

3. September 22, 2005: Presidio, TX. Informational session: 5:30 p.m. Scoping meeting 7 p.m.

ADDRESSES:

Meetings

The public informational sessions and scoping meetings will be held at the following locations:

1. Sanderson, TX: Sanderson Community Meeting Hall, 108 Hackberry Street, Sanderson, TX 79848.

2. Alpine, TX: Sul Ross State University, Gallego Center, Room 129, East Highway 90, Alpine, TX 79832.

3. Presidio, TX: Presidio Activity Center, 1400 East O'Reilly Street, Presidio, TX 79845.

Information, comments, or questions related to preparation of the draft environmental assessment and the NEPA process should be submitted to Joy Nicholopoulos, State Administrator, U.S. Fish and Wildlife Service, New Mexico Ecological Services Field Office, 2105 Osuna NE, Albuquerque, New Mexico, 87113. Written comments may also be sent by facsimile to (505) 346-2542 or by e-mail to R2FWE_AL@fws.gov. For directions on how to submit electronic filing of comments, see the “Public Comments Solicited” section.

FOR FURTHER INFORMATION CONTACT: Questions regarding the scoping process, preparation of the draft environmental assessment, or the development of a proposed rule designating a NEP may be directed to Jennifer Parody at telephone number (505) 761-4710. Persons who use a telecommunications device for the deaf (TDD) may call the Federal Information Relay Service (FIRS) at 1-800-877-8339, 24 hours a day, 7 days a week.

SUPPLEMENTARY INFORMATION:

Public Comments Solicited

We intend for our draft environmental assessment (EA) to consider reasonable alternatives for the establishment of a NEP of silvery minnow. We also wish to ensure that any proposed rulemaking to establish a NEP effectively evaluates all potential issues and impacts. Therefore, we are seeking comments and suggestions on the following issues for consideration in the preparation of the draft EA and the proposed rule concerning a NEP for the silvery minnow. This list is not intended to be all inclusive and comments on any other pertinent issues are welcome.

Issues related to the scope of the NEP:

(a) The reasons why any particular area of the Rio Grande River from Little Box Canyon downstream of Ft. Quitman, Hudspeth County, TX, through Big Bend National Park and the Rio Grande Wild and Scenic River, to Amistad Dam and the Railroad Bridge at Diablo East, Amistad Reservoir and the Pecos River from its confluence with Independence Creek to its confluence with the Rio Grande should or should not be included in a NEP designation.

(b) Information on the distribution and quality of habitat for the silvery minnow, land or water use practices, and current or planned activities in areas that may be affected by a designation of a NEP.

Issues related to evaluation of the environmental impacts:

The general question on which we are seeking comments is the identification of direct, indirect, beneficial, and adverse effects caused by the establishment of a NEP of silvery minnow. In addressing this question, you may wish to consider the following issues:

(a) Impacts on floodplains, wetlands, wild and scenic rivers, or ecologically sensitive areas;

(b) Impacts on park lands and cultural or historic resources;

(c) Impacts on human health and safety;

(d) Impacts on air, soil, and water;

(e) Impacts on prime agricultural lands;

(f) Impacts to other endangered or threatened species;

(g) Disproportionately high and adverse impacts on minority and low-income populations;

(h) Any other potential or socioeconomic effects; and

(i) Any potential conflicts with other Federal, State, local, or Tribal environmental laws or requirements.

We seek comment from Federal, State, local, or Tribal government agencies; the scientific or business community; landowners; or any other interested party. To promulgate a proposed rule and to determine whether to prepare a finding of no significant impact or an environmental impact statement, we will take into consideration all comments and any additional information received. All comments, including names and addresses, will become part of the supporting record.

If you wish to provide comments and/or information, you may submit your comments and materials by any one of several methods (see ADDRESSES). Comments submitted electronically should be in the body of the e-mail message itself or attached as a text file (ASCII), and should not use special characters or encryption. Please also include “Attn: Silvery Minnow NEPA Scoping,” your full name, and your return address in your e-mail message. If you do not receive a confirmation from the system that we have received your e-mail message, contact us directly by calling our New Mexico Ecological Services Field Office (see ADDRESSES section).

Our practice is to make comments, including names and home addresses of respondents, available for public review during regular business hours. Respondents may request that we withhold their home addresses, which we will honor to the extent allowable by law. There also may be circumstances in which we would withhold a respondent's identity, as allowable by law. If you wish for us to withhold your name and/or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at New Mexico Ecological Services Field Office in Albuquerque, New Mexico (see ADDRESSES).

We will give separate notice of the availability of the draft EA when completed, so that interested and affected people may comment on the draft and have input into the final decision.

Background

This species was historically one of the most abundant and widespread fishes in the Rio Grande Basin, occurring from Española, NM, to the Gulf of Mexico (Bestgen and Platania 1991). It was also found in the Pecos River, a major tributary of the Rio Grande, from Santa Rosa, NM, downstream to its confluence with the Rio Grande (Pflieger 1980). The silvery minnow is extirpated from the Pecos River and also from the Rio Grande downstream of Elephant Butte Reservoir and upstream of Cochiti Reservoir (Bestgen and Platania 1991). The current distribution of the silvery minnow is limited to the Rio Grande River between Cochiti Dam and Elephant Butte Reservoir, which amounts to only about 5 percent of its historic range. Throughout much of its historic range, the decline of the silvery minnow has been attributed to modification of the flow regime (hydrological pattern of flows that vary seasonally in magnitude and duration, depending on annual precipitation patterns such as runoff from snowmelt), channel drying, reservoirs and dams, stream channelization, and perhaps both interactions with non-native fish and decreasing water quality (Cook et al. 1992; Bestgen and Platania 1991; Service 1999; Buhl 2002). Development of agriculture and the growth of cities within the historic range of the silvery minnow resulted in a decrease in the quality of river water caused by municipal and agricultural runoff (i.e., sewage and pesticides) that may have also adversely affected the range and distribution of the silvery minnow.

The various life history stages of the silvery minnow require shallow waters with a sandy and silty substrate that is generally associated with a meandering river that includes sidebars, oxbows, and backwaters (C. Hoagstrom, pers. comm. 2001; Bestgen and Platania 1991; Platania 1991). Although the silvery minnow is a hearty fish, capable of withstanding many of the natural stresses of the desert aquatic environment, most individual silvery minnows live only one year (Bestgen and Platania 1991). Thus, a successful annual spawn is key to the survival of the species (Platania and Hoagstrom 1996; Service 1999; Dudley and Platania 2001, 2002). More information about the life history and decline of the silvery minnow can be found in the final designation of critical habitat for the species (February 19, 2003; 68 FR 8088) and in the Rio Grande Silvery Minnow Recovery Plan (Service 1999).

Recovery Efforts

We published the final rule to list the silvery minnow on July 20, 1994 (59 FR 36988). Restoring an endangered or threatened species to the point where it is recovered is a primary goal of our endangered species program. Thus, on July 1, 1994, the Recovery Team was established by us pursuant to section 4(f)(2) of the Act (16 U.S.C. 1531 et. seq.) and our cooperative policy on recovery plan participation, a policy intended to involve stakeholders in recovery planning (July 1, 1994; 59 FR 34272). Stakeholder involvement in the development of recovery plans helps minimize the social and economic impacts that could be associated with recovery of endangered species and facilitates implementation of recovery objectives. Numerous individuals, agencies, and affected parties were involved in the development of the Recovery Plan or otherwise provided assistance and review (Service 1999). On July 8, 1999, we finalized the Recovery Plan (Service 1999). Efforts are currently underway to update the Recovery Plan.

The Recovery Plan recommends recovery goals for the silvery minnow, as well as procedures to better understand the biology of the species. The primary objective of the Recovery Plan is to delist the silvery minnow. The primary goals that are designed to achieve this are to: (1) Stabilize and enhance populations of silvery minnow and its habitat in the middle Rio Grande valley; and (2) reestablish the silvery minnow in at least three other areas of its historic range (Service 1999). The silvery minnow's range has been so greatly restricted that the species is extremely vulnerable to catastrophic events, such as a prolonged period of low or no flow (i.e., the loss of all surface water) (Dudley and Platania 2001). Reestablishment of silvery minnow into other areas of its historic range will assist in the species' recovery and long-term survival in part because it is unlikely that any single event would simultaneously eliminate the silvery minnow from three geographic areas (Service 1999).

The final designation of critical habitat for the silvery minnow was published on February 19, 2003 (68 FR 8088). In the process of designating critical habitat, we determined that a river reach of the Rio Grande in Big Bend National Park and the Rio Grande Wild and Scenic River to the Terrell/Val Verde County line, TX, is essential to the conservation of the silvery minnow; however, this area was not proposed for critical habitat designation, as explained in the proposed (June 6, 2002; 67 FR 39206) and final rules. Since the silvery minnow is extirpated from this area and natural repopulation is not possible without human assistance, we believe an experimental population is the appropriate tool to achieve this recovery objective. Our conservation strategy for the silvery minnow is to establish populations within its historic range under section 10(j) of the Act, which could include all or portions of this stream reach (February 19, 2003; 68 FR 8088).

The continuing presence of other members of the pelagic spawning guild (e.g., species with semibuoyant eggs, like the silvery minnow, such as the speckled chub and Rio Grande shiner) are evidence that the Rio Grande through the Big Bend National Park and Rio Grande Wild and Scenic River areas may support reestablishment of silvery minnow (Platania 1990; IBWC 1994). Moreover, water quality in this reach, as compared to that of the reach upstream of the Park, is greatly improved as a result of the many freshwater springs in the area (MacKay 1993; R. Skiles, pers. comm. 2001; IBWC 1994). This area, which is protected and managed by the National Park Service, currently supports a relatively stable hydrologic regime (R. Skiles, pers. comm. 2001).

In accordance with the Recovery Plan, we have initiated a captive propagation program for the silvery minnow (Service 1999). We currently have silvery minnows housed at: (1) the Service's Dexter National Fish Hatchery and Technology Center, (2) the City of Albuquerque's Biological Park, and (3) the New Mexico State University. Progeny of these fish are being used to augment the middle Rio Grande silvery minnow population, but could also be used in future augmentation or reestablishment programs for the silvery minnow in other river reaches (J. Remshardt, New Mexico Fishery Resources Office, pers. comm. 2001).

Experimental Populations

Congress made significant changes to the Act in 1982 with the addition of section 10(j), which provides for the designation of specific reintroduced populations of listed species as “experimental populations.” Under section 10(j), the Secretary of the Department of the Interior can designate reintroduced populations established outside the species' current range, but within its historic range, as “experimental.” On the basis of the best scientific and commercial data available, we must determine whether an experimental population is “essential” or “nonessential” to the continued existence of the species.

The Service is proposing to establish a NEP of silvery minnow in the Big Bend stretch of the Rio Grande, because we believe this experimental population would not be essential to the continued existence of the species for the following reasons:

(a) An established population of silvery minnow exists in New Mexico;

(b) Captive propagation facilities produce enough offspring to maintain a captive population and provide silvery minnow for release; and

(c) The possible failure of this action would not be likely to reduce the likelihood of survival of the species.

Under the Act, species listed as endangered or threatened are afforded protection primarily through the prohibitions of section 9 and the requirements of section 7. Section 9 of the Act prohibits the take of endangered wildlife. “Take” is defined in section 3 of the Act as “to harass, harm, pursue, hunt, shoot, wound, kill, trap, capture, or collect, or attempt to engage in any such conduct.” Service regulations (50 CFR 17.31) generally extend the prohibition of take to threatened wildlife. Section 7 of the Act outlines the procedures for Federal interagency cooperation to conserve federally listed species and protect designated critical habitats. It mandates all Federal agencies to determine how to use their existing authorities to further the purposes of the Act to aid in recovering listed species. It also states that Federal agencies will, in consultation with the Service, ensure that any action they authorize, fund, or carry out is not likely to jeopardize the continued existence of a listed species or result in the destruction or adverse modification of designated critical habitat. Section 7 of the Act does not affect activities undertaken on private lands unless they are authorized, funded, or carried out by a Federal agency.

For purposes of section 9 of the Act, a population designated as experimental is treated as threatened regardless of the species' designation elsewhere in its range. Through section 4(d) of the Act, threatened designation allows us greater discretion in devising management programs and special regulations for such a population. Section 4(d) of the Act allows us to adopt regulations that are necessary to provide for the conservation of a threatened species. In these situations, the general regulations that extend most section 9 prohibitions to threatened species do not apply to that species, and the special 4(d) rule contains the prohibitions and exemptions necessary and appropriate to conserve that species. Regulations issued under section 4(d) for NEPs are usually more compatible with routine human activities in the reintroduction area.

For the purposes of section 7 of the Act, we treat NEPs as threatened species when the NEP is located within a National Wildlife Refuge or National Park, and section 7(a)(1) and the consultation requirements of section 7(a)(2) of the Act apply. Section 7(a)(1) requires all Federal agencies to use their authorities to conserve listed species. Section 7(a)(2) requires that Federal agencies, in consultation with the Service, ensure any actions they authorize, fund, or carry out are not likely to jeopardize the continued existence of a listed species or adversely modify its critical habitat. When NEPs are located outside a National Wildlife Refuge or National Park, we treat the population as proposed for listing and only two provisions of section 7 would apply; section 7(a)(1) and section 7(a)(4). In these instances, NEPs provide additional flexibility because Federal agencies are not required to consult with us under section 7(a)(2). Section 7(a)(4) requires Federal agencies to confer with the Service on actions that are likely to jeopardize the continued existence of a proposed species. The results of a conference are advisory in nature and do not restrict agencies from carrying out, funding, or authorizing activities.

Individual silvery minnows used to establish a NEP may come from a donor population, provided their removal will not create adverse impacts upon the parent population, and provided appropriate permits are issued in accordance with our regulations (50 CFR 17.22) prior to their removal.

In order to establish a NEP, we must issue a proposed regulation and consider public comments on the proposed rule prior to publishing a final regulation. In addition, we must comply with NEPA (42 U.S.C. 4321 et seq.). Also, our regulations require that, to the maximum extent practicable, a regulation issued under section 10(j) of the Act represents an agreement between the Service, the affected State and Federal agencies, and persons holding any interest in land that may be affected by the establishment of the experimental population (see 50 CFR 17.81(d)).

We have not yet identified possible alternatives for accomplishing our recovery goals in the Big Bend stretch of the Rio Grande River, and we do not know what the preferred alternative (the proposed action) or other alternatives might entail. Once identified, the alternatives will be carried forward into detailed analyses pursuant to NEPA.

We will take the following steps prior to making a decision regarding any release of the silvery minnow as “experimental”: (1) Compile and analyze all new biological information on the species; (2) review and update the administrative record covering previous Federal actions for the species; (3) review the overall approach to the conservation and recovery of the silvery minnow in the United States; (4) review available information that pertains to the habitat requirements of this species, including material received during the public comment period for this notice, during the scoping meetings, and from previous rulemakings; (5) review actions identified in the Recovery Plan (Service 1999); (6) coordinate with State, county, local, and Federal partners; (7) coordinate with Mexican authorities; (8) write a draft EA and present alternatives to the public for review and comment; (9) incorporate public input and use current knowledge of silvery minnow habitat use and availability to precisely map the potential experimental population area; (10) publish a proposed experimental population rule in the Federal Register and solicit comments from the public; (11) finalize the draft EA; and (12) if we determine it is prudent to proceed with the designation, finalize the experimental population rule, thereby identifying an experimental population area and authorizing the release of the silvery minnow as an experimental population in Texas.

We are the lead Federal agency for compliance with NEPA for this action. Thus far, the National Park Service and the International Boundary and Water Commission, United States Section, have agreed to be cooperating agencies in the NEPA process. The draft EA will incorporate public concerns in the analysis of impacts associated with the proposed action and associated project alternatives. The draft EA will be sent out for a minimum 30-day public review period, during which time comments will be solicited on the adequacy of the document. The final EA will address the comments we receive during public review and will be furnished to all who commented on the draft EA, and made available to anyone who requests a copy. This notice is provided pursuant to regulations for implementing NEPA (40 CFR 1506.6).

References

A complete list of all references cited in this notice is available, upon request, from the U.S. Fish and Wildlife Service, New Mexico Ecological Services Field Office (see ADDRESSES section).

Authority: The authority for this action is the Endangered Species Act of 1973 (16 U.S.C. 1531 et seq.).

Dated: July 22, 2005.
Paul Hoffman,
Deputy Assistant Secretary for Fish and Wildlife and Parks.

[FR Doc. 05-15303 Filed 8-2-05; 8:45 am]

BILLING CODE 4310-55-P